DEPARTMENT OF ENERGY

Federal Energy Regulatory Commission

[Docket No. RP99-301-003]

ANR Pipeline Company; Notice of Proposed Changes in FERC Gas Tariff

April 10, 2000.

Take notice that on April 3, 2000, ANR Pipeline Company (ANR) tendered for filing as part of its FERC Gas Tariff, Second Revised Volume No. 1, the following tariff sheets, with a proposed effective date of April 1, 2000:

Seventh Revised Sheet No. 14

Original Sheet Nos. 14A through 14M

Sixth Revised Sheet No. 15

ANR is filing the attached tariff sheets to reflect the implementation of a restructured service portfolio for Wisconsin Public Service Corporation (WPSC) for service under Rate Schedules ETS, FTS-1, FSS, NNS and GF-1. Generally, WPSC's new contracts will be effective April 1, 2000 and terminate in 2009 or 2010. Under the restructured portfolio, WPSC's rate components may be adjusted as a result of surcharges placed in effect after November 5, 1999, and entitlements can be reduced or increased. ANR requests that the Commission grant ANR any waivers of the Commission's regulations which are necessary in order to make these tariff sheets effective as of April 1, 2000, and to the extent necessary, moves pursuant to 18 CFR 154.7(a)(9) for the tariff sheets to go into effect on said date. Additionally, ANR requests all such further relief as is appropriate.

ANR states that a copy of this filing is being mailed to the affected shipper and to each ANR's FERC Gas Tariff, Second Revised Volume No. 1 and Original Volume No. 2 customers, and interested State Commissions.

Any person desiring to protest this filing should file a protest with the Federal Energy Regulatory Commission, 888 First Street, NE, Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc. fed.us/online/rims.htm (call 202-208-2222 for assistance).

David P. Boergers,
Secretary.

[FR Doc. 00-9319 Filed 4-13-00; 8:45 am]

BILLING CODE 6717-01-M